DEPARTMENT OF TRANSPORTATION [4910-RY]

Federal Highway Administration

Notice of Final Federal Agency Action on Proposed Highway in North Carolina

AGENCY: Federal Highway Administration (FHWA), DOT.

ACTION: Notice of Limitations on Claims for Judicial Review of Actions by the United States Army Corps of Engineers.

SUMMARY: This notice announces an action taken by the United States Army Corps of Engineers (USACE) that is final within the meaning of 23 U.S.C. 139(l)(1). This final agency action relates to a proposed highway project, Bonner Bridge Replacement Project along NC 12, from Rodanthe to Bodie Island in Dare County, North Carolina. The FHWA's Record of Decision (ROD) identifies the Parallel Bridge Corridor Alternative as the selected alternative for Phase I of the Bonner Bridge Replacement Project with a Transportation Management Plan which outlines a decision-making process for future phases.

DATES: By this notice, the FHWA is advising the public of a final agency action subject to 23 U.S.C. 139(l)(1). A claim seeking judicial review of the Federal agency actions on the highway project will be barred unless the claim is filed on or before December 12, 2014. If the Federal law that authorizes judicial review of a claim provides a time period of less than 150 days for filing such claim, then that shorter time period still applies.

FOR FURTHER INFORMATION CONTACT: For FHWA: Clarence W. Coleman, P. E., Director of Preconstruction and Environment, Federal Highway Administration, 310 New Bern Avenue, Ste 410, Raleigh, North Carolina 27601-1418; Telephone: (919) 747-7014; email: clarence.coleman@dot.gov. FHWA North Carolina Division Office's normal business hours are 8 a.m. to 5 p.m. (Eastern Time). For the North Carolina Department of Transportation (NCDOT): Richard Hancock, P.E., Environmental Director, Project Development and Environmental Analysis, North Carolina Department of Transportation (NCDOT), 1 South Wilmington Street (Delivery), 1548 Mail Service Center, Raleigh, North Carolina 27699-1548; Telephone (919) 707-6000; RWHancock@ncdot.gov NCDOT—Project Development and Environmental Analysis Branch Office's normal business hours are 8 a.m. to 5 p.m. (Eastern Time).

SUPPLEMENTARY INFORMATION: Notice is hereby given that the USACE has taken a final agency action by issuing a permit for the following highway project in the State of North Carolina: Phase I of The Bonner Bridge Replacement Project along Highway NC 12, from Rodanthe to Bodie Island, in Dare County, North Carolina. The project is also known as State Transportation Improvement Program (STIP) Project B-2500, which involves replacing the deteriorating Bonner Bridge over Oregon Inlet as Phase I of the project and includes an NC 12 Transportation Management Plan that establishes a process for future decision-making for the section of NC 12 from Oregon Inlet to the Village of Rodanthe. The permit has authorized the discharging of fill material directly into 0.49 acre of wetlands and temporarily impacting 0.38 acre of wetlands adjacent to NC Highway 12, on the north and south sides of Oregon Inlet, in the Pea Island National Wildlife Refuge on Hatteras Island, in order to make improvements to NC 12 associated with the construction of a new bridge to replace the existing Herbert C Bonner Bridge and to retain 1,050 feet of the existing bridge to serve as a training structure. USACE Permit No.: SAW-1993-03077, issued June 4, 2014, describes the general and special conditions of the work authorized by the USACE. This permit only authorizes work on Phase I of TIP B-2500. Construction on subsequent phases of TIP B-2500 shall not commence until approval has been obtained by the USACE in accordance with this permit authorization through an approved modification or a separate permit authorization.

This notice applies to the following USACE decision as of the issuance date of this notice:

1. Wetlands and Water Resources: Clean Water Act (33 U.S.C. 1344).

2. Section 10 of the Rivers and Harbors Act (33 U.S.C. 403).

3. Executive Orders: E.O. 11990 Protection of Wetlands; E.O. 11988 Floodplain Management.

The regulations implementing Executive Order 12372 regarding intergovernmental consultation on Federal programs and activities apply to this program.

Authority: 23 U.S.C. 139 (l)(1).

Issued On: July 2, 2014.
Clarence W. Coleman,
Director of Preconstruction and Environment, Raleigh, North Carolina.

[FR Doc. 2014-16386 Filed 7-14-14; 8:45 am]

BILLING CODE P